DEPARTMENT OF TRANSPORTATION

Maritime Administration

Vessel Self-Designations

AGENCY: U.S. Department of Transportation, Maritime Administration.

ACTION: Notice.

SUMMARY: On September 4, 2009, the United States Department of Agriculture (USDA), the United States Department of Transportation's Maritime Administration (MARAD), and the United States Agency for International Development (USAID) entered into a Memorandum of Understanding (MOU) regarding the proper implementation of the Cargo Preference Act (CPA). That MOU, inter alia, establishes procedures and standards by which owners and operators of oceangoing cargo ships may seek to designate each of their vessels as either a dry bulk carrier or a dry cargo liner, according to specified service-based criteria. This Notice both announces that MARAD has received such self-designation applications for particular vessels from their owners and operators, and invites comments thereon from interested parties. MARAD will thereafter consider all the information submitted in support of a requested self-designation and other evidence in the record in reaching its own decision on the appropriate vessel classification.

DATES: Comments are due on October 19, 2009.

Background

The CPA requires that federal agencies take “necessary and practicable” steps to ensure that privately-owned U.S.-flag vessels transport at least 50 percent of the gross tonnage of cargo sponsored under Federal programs “(computed separately for dry bulk carriers, dry cargo liners, and tankers) * * * to the extent such vessels are available at fair and reasonable rates for commercial vessels of the United States, in a manner that will ensure a fair and reasonable participation of commercial vessels of the United States in those cargoes by geographic areas.” 46 U.S.C. 55305(b). An additional 25 percent of gross tonnage of certain food assistance programs is to be transported in accordance with the requirements of 46 U.S.C. 55314.

The MOU referenced above, as well as an accompanying explanatory notice, were published by MARAD in the Federal Register on September 15, 2009. The MOU adopts standards and procedures to be used to classify the vessels transporting preference cargo. This Notice marks the first use of those standards and procedures. Owners and operators of the vessels listed below have submitted applications to self-designate their ships as either dry bulk vessels or as dry cargo liners. Each vessel has been assigned a separate docket containing the materials submitted. Interested persons are invited to submit comments regarding these vessels to the appropriate docket no later than 5 p.m. EDT on October 19, 2009. Commentators are advised to address their comments to the service-based criteria listed in the September 15 Federal Register notice that will determine the ultimate classification of each vessel.

Applications to Self-Designate
Docket | Owner/Operator | Vessel
MARAD-2009-0093 | U.S. United Ocean Serv. | M/VSheila McDevitt.
MARAD-2009-0097 | U.S. United Ocean Serv. | M/VMary Ann Hudson.
MARAD-2009-0094 | Liberty Maritime Corp | M/VLiberty Eagle.
MARAD-2009-0095 | Liberty Maritime Corp | M/VLiberty Glory.
MARAD-2009-0096 | Liberty Maritime Corp | M/VLiberty Grace.
MARAD-2009-0098 | APL Maritime Limited | APL Ireland.
MARAD-2009-0099 | APL Maritime Limited | APL New York.
MARAD-2009-0100 | APL Maritime Limited | APL Arabia.
MARAD-2009-0101 | APL Maritime Limited | APL Virginia.
MARAD-2009-0102 | APL Maritime Limited | APL Egypt.
MARAD-2009-0103 | APL Maritime Limited | APL Jade.
MARAD-2009-0104 | APL Maritime Limited | APL Japan.
MARAD-2009-0105 | APL Maritime Limited | APL Pearl.
MARAD-2009-0106 | APL Maritime Limited | APL Cyprine.
MARAD-2009-0107 | APL Maritime Limited | APL Agate.
MARAD-2009-0108 | APL Maritime Limited | APL Agaman.
MARAD-2009-0109 | APL Maritime Limited | APL Amazonite.
MARAD-2009-0110 | APL Maritime Limited | APL Alexandrite.
MARAD-2009-0111 | APL Maritime Limited | APL Germany.
MARAD-2009-0112 | APL Maritime Limited | APL Hong Kong.
MARAD-2009-0113 | APL Maritime Limited | APL Vietnam.
MARAD-2009-0114 | APL Maritime Limited | APL Malaysia.
MARAD-2009-0115 | APL Maritime Limited | APL Denmark.
MARAD-2009-0116 | APL Maritime Limited | APL Sardonyx.
MARAD-2009-0117 | APL Maritime Limited | APL Canada.
MARAD-2009-0118 | APL Maritime Limited | APL Holland.
MARAD-2009-0119 | APL Maritime Limited | APL Belgium.
MARAD-2009-0120 | APL Maritime Limited | APL Spain.
MARAD-2009-0121 | APL Maritime Limited | APL Garnet.
MARAD-2009-0122 | APL Maritime Limited | APL Sweden.
MARAD-2009-0123 | APL Maritime Limited | APL India.
MARAD-2009-0124 | APL Maritime Limited | APL Australia.
MARAD-2009-0125 | APL Maritime Limited | APL Amman.
MARAD-2009-0126 | APL Maritime Limited | APL Italy.
MARAD-2009-0127 | APL Maritime Limited | APL Atlanta.
MARAD-2009-0128 | Hapag Lloyd USA LLC | FF Dubai Express.
MARAD-2009-0129 | Hapag Lloyd USA LLC | FF Lahore Express.
MARAD-2009-0130 | Hapag Lloyd USA LLC | FF New Delhi Express.
MARAD-2009-0131 | Hapag Lloyd USA LLC | US Charleston Express.
MARAD-2009-0132 | Hapag Lloyd USA LLC | US Philadelphia Express.
MARAD-2009-0133 | Hapag Lloyd USA LLC | US St. Louis Express.
MARAD-2009-0134 | Hapag Lloyd USA LLC | US Washington Express.
MARAD-2009-0135 | Hapag Lloyd USA LLC | US Yorktown Express.

The self-designations sought by vessel owners and operators will remain effective unless MARAD reaches a different determination. MARAD will issue such determinations no later than 15 calendar days from the close of the comment period, that is, no later than November 3, 2009. Vessel owners and operators who object to MARAD's designation may appeal to the MARAD Administrator within 10 calendar days, or no later than 5 p.m. EDT on November 13, 2009. MARAD will issue its final determination in such cases within 30 calendar days, or no later than December 14, 2009, after consultation with USAID, USDA, and the U.S. Department of State.

Pursuant to the terms of the MOU, vessels for which no applications for self-designation are submitted will retain the classification found on the existing vessel list maintained by MARAD unless and until MARAD makes a contrary designation. The MARAD list may be found at: http://marad.dot.gov/documents/MAR730_Master VesselList forCargo Preference.pdf.

ADDRESSES: All comments should prominently refer to the docket assigned to the vessel to which they pertain. Interested persons are strongly encouraged to submit their comments electronically via the Internet at http://www.regulations.gov. Enter the docket number provided above that pertains to the relevant vessel and follow instructions for submitting comments. Comments may also be submitted via Fax or by hand or express delivery. Fax: (202) 493-2251. Hand or express delivery: Docket Clerk, U.S. Department of Transportation, Docket Operations, M-30, West Building Ground Floor, Room W12-140, 1200 New Jersey Avenue, SE., Washington, DC 20590.

FOR FURTHER INFORMATION CONTACT: Jean E. McKeever, Associate Administrator for Business and Workforce Development, Maritime Administration, 1200 New Jersey Ave., SE., Washington, DC 20590; phone: (202) 366-5737; fax: (202) 366-6988; or e-mail: jean.mckeever@dot.gov. Persons who use a telecommunications device for the deaf (TDD) may call the Federal Information Relay Service (FIRS) at 1-800-877-8339 to contact the above individuals during business hours. The FIRS is available twenty-four hours a day, seven days a week, to leave a message or question with the above individuals. You will receive a reply during normal business hours.

By Order of the Acting Maritime Administrator.
Dated: October 2, 2009.
Julie P. Agarwal,
Acting Secretary, Maritime Administration.

[FR Doc. E9-24165 Filed 10-6-09; 8:45 am]

BILLING CODE 4910-81-P